DEPARTMENT OF HEALTH AND HUMAN SERVICES

Food and Drug Administration

21 CFR Part 170

Food Additives

CFR Correction

This rule is being published by the Office of the Federal Register to correct an editorial or technical error that appeared in the most recent annual revision of the Code of Federal Regulations.

In Title 21 of the Code of Federal Regulations, Parts 170 to 199, revised as of April 1, 2021, in § 170.30, reinstate paragraph (g) to read as follows:

§ 170.30 Eligibility for classification as generally recognized as safe (GRAS).

* * * * *

(g) A food ingredient that is not GRAS or subject to a prior sanction requires a food additive regulation promulgated under section 409 of the act before it may be directly or indirectly added to food.

* * * * *

[FR Doc. 2022-06677 Filed 3-28-22; 8:45 am]

BILLING CODE 0099-10-D